FEDERAL MARITIME COMMISSION

[Docket No. 06-02]

The Lake Charles Harbor and Terminal District v. West Cameron Port, Harbor and Terminal District; Notice of Filing of Complaint and Assignment

Notice is given that a complaint has been filed with the Federal Maritime Commission (“Commission”) by The Lake Charles Harbor and Terminal District (“Complainant”), against West Camden Port, Harbor, and Terminal District, (“Respondent”). Complainant asserts that it is a political subdivision of the State of Louisiana, a deep-water port authority which collects revenue from charges assessed against cargo and vessels using its facilities. Complainant alleges that Respondent is also a subdivision of the State of Louisiana and a port authority. Complainant contends that Respondent has demanded wharfage charges from Cheniere LNG, Inc. (“Cheniere”) which do not bear a reasonable relationship to the services and facilities provided to those against whom the charges are assessed. Complainant further contends that these charges violate Section 10(d)(1) of the Shipping Act of 1984 (“The Act”) in that the Respondent failed to establish, observe, and enforce just and reasonable practices relating to the receiving, handing, storing, or delivering of property and is imposing undue or unreasonable prejudice or disadvantage with respect to Complainant. In addition, Complainant contends that Respondent violated Section 5(a) of the Act by not filing an agreement between Cheniere and Respondent with the FMC. Respondent prays for reparations in the amount of actual injury suffered by Complainant plus costs and reasonable attorney fees, an order directing Respondent to pay these reparations, an order directing Respondent to “cease and desist” from violating 10(d)(1) of the Act by collecting wharfage and other fees not related to any services provided, an order directing Respondent to file with the FMC all agreements, and any such other relief as the Commission deems just and proper.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by January 29, 2007, and the final decision of the Commission shall be issued by May 29, 2007.

Bryant L. VanBrakle,
Secretary.

[FR Doc. E6-1369 Filed 2-1-06; 8:45 am]

BILLING CODE 6730-01-P